DEPARTMENT OF THE INTERIOR

Bureau of Land Management

[CO-200-1220-DU]

Change in Off-Highway Vehicle (OHV) Designations; Closure of Public Lands to Recreational Target Shooting; and Implementation of Supplementary Rules Regarding Operation of Motorized Vehicles and Bicycles

AGENCY: Bureau of Land Management; Interior.

ACTION: Notice.

SUMMARY: This notice implements five decisions from the Gold Belt Travel Management Plan, approved August 18, 2004. The following decisions are effective immediately on certain public lands in El Paso, Fremont, Park, and Teller Counties, Colorado.

(1) A change in the OHV designation for the Penrose Commons area (3,200 acres) from “open” to OHV use to OHV use “limited to designated roads and trails”.

(2) A change in the OHV designation for the Deer Haven area (4,900 acres) from “closed” to OHV use to OHV use “limited to designated roads and trails”.

(3) The closure of approximately 11,000 acres of public lands to recreational target shooting. Licensed hunters in legitimate pursuit of game during the proper season with appropriate firearms, as defined by the Colorado Division of Wildlife, are exempt from this closure.

(4) A supplementary rule limiting motorized vehicle travel for parking, camping, and retrieving game to a maximum of 100 feet from designated roads and trails in the Gold Belt Travel Management Plan area (138,600 acres).

(5) A supplementary rule restricting mountain bikes to designated roads and trails in the Gold Belt Travel Management Plan area (138,600 acres).

The purpose of the change in designation, closure and supplementary rules is to prevent damage to public lands and resources, reduce user conflicts, protect public safety, and reduce vandalism to public and private property. The closure is made under the authority of 43 CFR 8364.1 and the supplementary rules are made under the authority of 43 CFR 8365.1-6.

DATES: Effective immediately and remaining in effect unless revised, revoked or amended.

ADDRESSES: Bureau of Land Management, Royal Gorge Field Office, 3170 East Main Street, Cañon City, Colorado 81212; telephone 719-269-8500.

FOR FURTHER INFORMATION CONTACT: Roy L. Masinton, Field Manager, or Leah Quesenberry, Outdoor Recreation Planner, at the above address and phone number.

SUPPLEMENTARY INFORMATION: The public lands affected by the change in designation, closure and supplementary rules are identified as follows:

Certain public lands located within the Gold Belt Travel Management Plan area in El Paso, Fremont, Park, and Teller Counties, Colorado

Colorado, Sixth Principal Meridian

T. 15 S., R. 70 W. through 72 W.

T. 16 S., R. 68 W. through 72 W.

T. 17 S., R. 68 W. through 72 W.

T. 18 S., R. 68 W. through 71 W.

These supplementary rules do not apply to emergency, law enforcement, and Federal or other government vehicles while being used for official or other emergency purposes, or to any other vehicle use that is expressly authorized or otherwise officially approved by BLM. Violation of order and rules is punishable by imprisonment for up to 12 months and/or a fine as defined in 18 U.S.C. 3571. This notice with detailed maps will be posted at the Royal Gorge Field Office.

Linda McGlothlen,
Acting Field Manager.

[FR Doc. 05-7815 Filed 4-19-05; 8:45 am]

BILLING CODE 4310-JB-P